DEPARTMENT OF JUSTICE

Antitrust Division

Notice Pursuant to the National Cooperative Research and Production Act of 1993—IMS Global Learning Consortium, Inc.

Correction

The document appearing on June 4, 2010, 75 FR 31816, should read as follows:

The title INS Global Consortium, Inc. should read as IMS Global Learning Consortium, Inc.;

In the second line, first paragraph, INS should read as IMS;

In the second to last paragraph, INS should read as IMS.

Patricia A. Brink,
Deputy Director of Operations, Antitrust Division.

[FR Doc. 2010-14859 Filed 6-18-10; 8:45 am]

BILLING CODE 4410-11-M